DEPARTMENT OF ENERGY

Office of Fossil Energy

National Coal Council

AGENCY: Department of Energy.

ACTION: Notice of open meeting cancellation.

On April 6, 2004, the Department of Energy published a notice of open meeting announcing a May 27, 2004, meeting of the National Coal Council 69 FR 18064. Today's notice is announcing the cancellation of that meeting. The meeting will be rescheduled later this summer.

Issued in Washington, DC on April 23, 2004.
Rachel M. Samuel,
Deputy Advisory Committee Management Officer.

[FR Doc. 04-9604 Filed 4-27-04; 8:45 am]

BILLING CODE 6450-01-P